DEPARTMENT OF ENERGY

Federal Energy Regulatory Commission

[Project No. 2814-023]

Paterson Municipal Utilities Authority, Great Falls Hydroelectric Company, City of Paterson, New Jersey; Notice of Application for Transfer of License, and Soliciting Comments and Motions To Intervene

On February 26 2016, Paterson Municipal Utilities Authority (PMUA) and Great Falls Hydroelectric Company (Great Falls) (transferors/co-licensees) and the City of Paterson, New Jersey (transferee/City of Paterson) (Successor in Interest to PMUA) filed an application for the transfer of license for the Great Falls Project No. 2814, located on the Passaic River in Passaic County, New Jersey.

Applicants seek Commission approval to transfer the license for the Great Falls Project from PMUA and Great Falls who are currently co-licensees to Great Falls and the City of Paterson who will become co-licensees.

Applicants' Contact: For transferors: Mr. Robert Gates, Executive Vice President of Operations, Eagle Creek Renewable Energy, LLC, 65 Madison Avenue, Suite 500, Morristown, NJ 07960, Phone: 973-998-8400, Email: Bob.gates@eaglecreekre.com and Mr. Joshua E. Adrian, Duncan, Weinberg, Genzer & Pembroke, P.C., 1615 M Street, NW., Suite 800, Washington, DC 20036, Phone: 202-467-6370, Email: jea@dwgp.com. For transferee: Mr. Ben-David Seligman, Esq., 2nd Asst. Corp. Counsel, City of Paterson, New Jersey, 155 Market Street, Paterson, NJ 07505, Phone 973-321-1366, Email: bseligman@patersonnj.gov and Ms. Julia S. Wood, Van Ness Feldman, LLP, 1050 Thomas Jefferson St. NW., Suite 700, Washington, DC 20007, Phone: 202-298-1800, Email: jsw@vnf.com.

FERC Contact: Patricia W. Gillis (202) 502-8735, patricia.gillis@ferc.gov.

Deadline for filing comments, motions to intervene, and protests: 15 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2814-023.

Dated: March 11, 2016.
Nathaniel J. Davis, Sr.,
Deputy Secretary.

[FR Doc. 2016-06024 Filed 3-16-16; 8:45 am]

BILLING CODE 6717-01-P